DEPARTMENT OF HEALTH AND HUMAN SERVICES

Centers for Medicare & Medicaid Services

[Document Identifier: CMS-10398 #88]

Medicaid and Children's Health Insurance Program (CHIP) Generic Information Collection Activities: Proposed Collection; Comment Request

AGENCY: Centers for Medicare & Medicaid Services, Health and Human Services (HHS).

ACTION: Notice.

SUMMARY: On May 28, 2010, the Office of Management and Budget (OMB) issued Paperwork Reduction Act (PRA) guidance related to the “generic” clearance process. Generally, this is an expedited process by which agencies may obtain OMB's approval of collection of information requests that are “usually voluntary, low-burden, and uncontroversial collections,” do not raise any substantive or policy issues, and do not require policy or methodological review. The process requires the submission of an overarching plan that defines the scope of the individual collections that would fall under its umbrella. This Federal Register notice seeks public comment on one or more of our collection of information requests that we believe are generic and fall within the scope of the umbrella. Interested persons are invited to submit comments regarding our burden estimates or any other aspect of this collection of information, including: the necessity and utility of the proposed information collection for the proper performance of the agency's functions, the accuracy of the estimated burden, ways to enhance the quality, utility and clarity of the information to be collected, and the use of automated collection techniques or other forms of information technology to minimize the information collection burden.

DATES: Comments must be received by November 19, 2024.

ADDRESSES: When commenting, please reference the applicable form number (CMS-10398 #86) and the OMB control number (0938-1148). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: CMS-10398 #88/OMB control number: 0938-1148, Room C4-26-05, 7500 Security Boulevard, Baltimore, Maryland 21244-1850.

To obtain copies of a supporting statement and any related forms for the proposed collection(s) summarized in this notice, please access the CMS PRA website by copying and pasting the following web address into your web browser: https://www.cms.gov/medicare/regulations-guidance/legislation/paperwork-reduction-act-1995/pra-listing.

FOR FURTHER INFORMATION CONTACT: William N. Parham at 410-786-4669.

SUPPLEMENTARY INFORMATION: Following is a summary of the use and burden associated with the subject information collection(s). More detailed information can be found in the collection's supporting statement and associated materials (see ADDRESSES).

Generic Information Collection

1. Title of Information Collection: Medicaid/CHIP School-Based Services (SBS) Grants; Type of Information Collection Request: New information collection request information request; Use: The Centers for Medicare & Medicaid Services (CMS) is committed to increasing access to health care services in ways that can narrow disparities in rates of care, promote quality education and achievement, and build a reliable system of support for every young person. This commitment recognizes research that consistently demonstrates a positive link between scholastic attainment and improved health outcomes while also acknowledging that the educational environment is an optimal place to promote wellbeing.

Schools are uniquely positioned to help increase health equity and to help ensure that all children, including adolescents, have access to necessary health care services. Although schools are primarily providers of education, the school setting provides a unique opportunity to: enroll eligible children and adolescents in Medicaid and the Children's Health Insurance Program (CHIP); deliver covered services, including behavioral health services (mental health and substance use disorder (SUD) services) to eligible children; and help children who are enrolled in Medicaid or CHIP access the services they need.

School-based services (SBS), which are Medicaid or CHIP-coverable services provided to children and adolescents in a school setting, play an important role in the health and well-being of children and adolescents, particularly for those enrolled in the Medicaid or CHIP programs.

The Bipartisan Safer Communities Act (BSCA) (Section 11003(b)) authorized $50,000,000 for the Secretary to award grants to States for the purpose of implementing, enhancing, or expanding the provision of assistance through school-based entities under Medicaid and CHIP. This initiative provides funding support to bolster State and local infrastructure for the provision, billing, and claiming of Medicaid and CHIP SBS programs. Medicaid and CHIP cover many services provided through schools to students enrolled in Medicaid. This includes services provided by school-based health centers, which can significantly improve key health and educational outcomes among students. With the funding from this grant, States will be able to strengthen their SBS programs, and provide an overall greater quality of services to their students.

Form Number: CMS-10398 #88 (OMB control number: 0938-1148); Frequency: Annual, quarterly, once, and on occasion; Affected Public: State, Local, or Tribal Governments; Number of Respondents: 18; Total Annual Responses: 114; Total Annual Hours: 1,278. (For policy questions regarding this collection contact: Andrew Badaracco at 410-786-4589.)

William N. Parham, III,
Director, Division of Information Collections and Regulatory Impacts, Office of Strategic Operations and Regulatory Affairs.

[FR Doc. 2024-25646 Filed 11-4-24; 8:45 am]

BILLING CODE 4120-01-P